DEPARTMENT OF COMMERCE

National Oceanic and Atmospheric Administration

RIN 0648-XE702

Mid-Atlantic Fishery Management Council (MAFMC); Meeting

AGENCY: National Marine Fisheries Service (NMFS), National Oceanic and Atmospheric Administration (NOAA), Commerce.

ACTION: Notice of a public meeting.

SUMMARY: The Scientific and Statistical Committee (SSC) of the Mid-Atlantic Fishery Management Council (Council) will meet July 20, 2016, through July 21, 2016.

DATES: The meeting will begin at 10 a.m. on Wednesday July 20, 2016, and end at 12 p.m. on Thursday, July 21, 2016. For agenda details, see SUPPLEMENTARY INFORMATION.

ADDRESSES: The meeting will be held at the Royal Sonesta Harbor Court, 550 Light Street, Baltimore, MD 21202; telephone: 410-234-0550.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION:

Agenda

Agenda items to be discussed at the SSC meeting include: Review fishery performance report and multi-year ABC specifications for summer flounder, scup, black sea bass and bluefish; MAFMC risk policy and assignment of CVs for Mid-Atlantic assessments; and, if time permits, review and discuss the Council's EAFM Guidance Document.

Special Accommodations

These meetings are physically accessible to people with disabilities. Requests for sign language interpretation or other auxiliary aids should be directed to M. Jan Saunders, (302) 526-5251, at least 5 days prior to the meeting date.

Authority: 16 U.S.C. 1801 et seq.

Dated: June 24, 2016.
Tracey L. Thompson,
Acting Director, Office of Sustainable Fisheries, National Marine Fisheries Service.

[FR Doc. 2016-15367 Filed 6-28-16; 8:45 am]

BILLING CODE 3510-22-P